FEDERAL DEPOSIT INSURANCE CORPORATION

12 CFR Part 328

RIN 3064-AF26

FDIC Official Sign and Advertising Requirements, False Advertising, Misrepresentation of Insured Status, and Misuse of the FDIC's Name or Logo; Extension of Comment Period

AGENCY: Federal Deposit Insurance Corporation (FDIC).

ACTION: Notice of proposed rulemaking; extension of comment period.

SUMMARY: On December 21, 2022, the FDIC published in the Federal Register a Notice of Proposed Rulemaking (NPR) seeking comment on proposed changes to the FDIC's regulations relating to the FDIC's official sign, the FDIC's official advertising statement, and misrepresentations of deposit insurance coverage. The NPR provided for a 60-day comment period, which would have closed on February 21, 2023. The FDIC is extending the comment period until April 7, 2023, to allow interested parties additional time to analyze the proposal and prepare comments.

DATES: The comment period for the NPR published on December 21, 2022 (87 FR 78017), is extended from February 21, 2023, to April 7, 2023.

ADDRESSES: Interested parties are invited to submit written comments, identified by RIN 3064-AF26, by any of the following methods:

• Agency Website: https://www.fdic.gov/resources/regulations/federal-register-publications/. Follow the instructions for submitting comments on the agency website.

• Email: comments@fdic.gov. Include RIN 3064-AF26 in the subject line of the message.

• Mail: James P. Sheesley, Assistant Executive Secretary, Attention: Comments—RIN 3064-AF26, Federal Deposit Insurance Corporation, 550 17th Street NW, Washington, DC 20429.

• Hand Delivery/Courier: Comments may be hand delivered to the guard station at the rear of the 550 17th Street NW building (located on F Street NW) on business days between 7 a.m. and 5 p.m.

• Public Inspection: Comments received, including any personal information provided, may be posted without change to https://www.fdic.gov/resources/regulations/federal-register-publications/. Commenters should submit only information that the commenter wishes to make available publicly. The FDIC may review, redact, or refrain from posting all or any portion of any comment that it may deem to be inappropriate for publication, such as irrelevant or obscene material. The FDIC may post only a single representative example of identical or substantially identical comments, and in such cases will generally identify the number of identical or substantially identical comments represented by the posted example. All comments that have been redacted, as well as those that have not been posted, that contain comments on the merits of the notice will be retained in the public comment file and will be considered as required under all applicable laws. All comments may be accessible under the Freedom of Information Act.

FOR FURTHER INFORMATION CONTACT: Division of Depositor and Consumer Protection: Luke H. Brown, Associate Director, 202-898-3842, LuBrown@FDIC.gov; Meron Wondwosen, Senior Policy Analyst, 202-898-7211, MeWondwosen@FDIC.gov; Edward J. Hof, Senior Policy Analyst, 202-898-7213, EdwHof@FDIC.gov; Legal Division: James Watts, Counsel, 202-898-6678, jwatts@FDIC.gov; Vivek Khare, Counsel, 202-898-6847, vkhare@fdic.gov.

SUPPLEMENTARY INFORMATION: On December 21, 2022, the FDIC published in the Federal Register ¹ an NPR proposing revisions to the regulations implementing section 18(a) of the Federal Deposit Insurance Act.²

¹ 87 FR 78017.

² 12 U.S.C. 1828(a); 12 CFR 328.

The NPR stated that the comment period would close on February 21, 2023. The FDIC has received requests to extend the comment period. An extension of the comment period will provide additional opportunity for the public to prepare comments to address the matters raised by the NPR. As such, the FDIC is extending the comment period for the NPR from February 21, 2023, to April 7, 2023.

Federal Deposit Insurance Corporation.
Dated at Washington, DC, on January 27, 2023.
James P. Sheesley,
Assistant Executive Secretary.

[FR Doc. 2023-02114 Filed 1-31-23; 8:45 am]

BILLING CODE 6714-01-P